DEPARTMENT OF COMMERCE

National Oceanic and Atmospheric Administration

Proposed Information Collection; Comment Request; West Coast Region U.S.—Canada Albacore Treaty Reporting System.

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 6, 2017.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90802, (562) 980-4238 or shannon.penna@noaa.gov.

SUPPLEMENTARY INFORMATION:

I. Abstract

This request is for an extension of a current information collection West Coast Region U.S.—Canada Albacore Treaty Reporting System.

The National Marine Fisheries Service (NMFS), West Coast Region, manages the United States (U.S.)—Canada Albacore Tuna Treaty of 1981 (Treaty). Owners of vessels that fish from U.S. West Coast ports for albacore tuna (Thunnus alalunga) are required to notify the NMFS West Coast Region of their desire to be on the list of vessels provided to Canada each year indicating vessels eligible to fish for albacore tuna in waters under the jurisdiction of Canada. Additionally, vessel operators are required to report in advance their intention to fish in Canadian waters prior to crossing the maritime border, as well as to mark their fishing vessels to facilitate enforcement of the effort limits under the Treaty. Vessel operators are also required to maintain and submit a logbook of all catch and fishing effort. The regulations implementing the reporting and vessel marking requirements under the Treaty are at 50 CFR part 300.172-300.176.

The estimated burden below includes hours to complete the logbook requirement, although it is assumed that most if not all of the respondents already complete the required logbook under the mandatory West Coast Highly Migratory Species Fishery Management Plan (HMS FMP), OMB Control No. 0648-0223. Duplicate reporting under the Treaty and HMS FMP is not required. Most years, there will be much less fishing (and thus less reporting) under the Treaty than the level on which the estimate is based.

II. Method of Collection

Requests to be placed on the vessel eligibility list may be made in writing via mail, fax, email, telephone, or through online registration if available. Communications to comply with `hail in' and `hail out' requirements are made via ship to shore radio or via telephone and are compiled in an electronic database by Fisheries and Oceans Canada. Summaries of hail reports are provided to NMFS on a periodic basis. Vessel marking requirements entail painting the letter `U' immediately after the U.S. Coast Guard documentation identification number or state registration number already on the vessel. Logbooks are maintained in pre-printed paper format and submitted via mail.

III. Data

OMB Control Number: 0648-0492.

Form Number(s): None.

Type of Review: Regular submission (extension of a current information collection).

Affected Public: Business or other for-profit organizations.

Estimated Number of Respondents: 120.

Estimated Time Per Response: 5 minutes for the request to be placed on the eligible list per year; 5 minutes for required vessel markings; 15 minutes for logbook entries; 10 minutes for each set of two hail reports for border crossings per year.

Estimated Total Annual Burden Hours: 240.

Estimated Total Annual Cost to Public: $1881.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 27, 2016.
Sarah Brabson,
NOAA PRA Clearance Officer.

[FR Doc. 2016-31762 Filed 12-30-16; 8:45 am]

BILLING CODE 3510-22-P